NATIONAL SCIENCE FOUNDATION

Notice of Permit Applications Received Under the Antarctic Conservation Act of 1978

AGENCY: National Science Foundation

ACTION: Notice of permit applications received under the Antarctic Conservation Act of 1978.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by September 1, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

APPLICATION DETAILS:

1. Applicant—Permit Application: 2017-007.

Maris Wicks, 81 Electric Avenue #3, Somerville, MA 02144.

Activity for Which Permit is Requested

Enter Antarctic Specially Protected Area. The applicant is a participant in the Antarctic Artists & Writers program and plans to travel to Antarctica to gather information and images for an educational publication that will document the research supported through the U.S. Antarctic Program. The applicant is requesting access to Cape Royds, ASPA 121; Backdoor Bay, ASPA 157; and Arrival Heights, ASPA 122, in order to observe and interview scientists, document their work and environs, and make photographs and sketches. While in the penguin colony at Cape Royds, the applicant will only observe, photograph, and sketch the penguins such that no take or harmful interference will occur. The applicant will be accompanied by researchers while in the ASPAs. The results of this work is expected to be useful for outreach and education about Antarctica and the scientific research conducted there.

Location

Cape Royds, ASPA 121; Backdoor Bay, ASPA 157; Arrival Heights, ASPA 122.

Dates

November 1, 2016-January 15, 2017.

Nadene G. Kennedy,
Polar Coordination Specialist, Division of Polar Programs.

[FR Doc. 2016-18281 Filed 8-1-16; 8:45 am]

BILLING CODE 7555-01-P